DEPARTMENT OF ENERGY

Office of Energy Efficiency and Renewable Energy

Biomass Research and Development Technical Advisory Committee

AGENCY: Department of Energy.

ACTION: Notice of open meeting.

SUMMARY: This notice announces an open meeting of the Biomass Research and Development Technical Advisory Committee under the Biomass Research and Development Act of 2000. The Federal Advisory Committee Act (Pub. L. 92-463, 86 Stat. 770) requires that agencies publish these notices in the Federal Register to allow for public participation.

DATES: April 13, 2006 at 8:30 a.m.

ADDRESSES: Spring Hill Suites by Marriott,Route 66 Room,15 West 90 North Frontage Road,Burr Ridge, IL 60527.

FOR FURTHER INFORMATION CONTACT: Neil Rossmeissl, Designated Federal Officer for the Committee, Office of Energy Efficiency and Renewable Energy, U.S. Department of Energy, 1000 Independence Avenue, SW., Washington, DC 20585; (202) 586-8668 or Harriet Foster at (202) 586-4541; E-mail: harriet.foster@ee.doe.gov.

SUPPLEMENTARY INFORMATION:

Purpose of Meeting

To provide advice and guidance that promotes research and development leading to the production of biobased fuels and biobased products.

Tentative Agenda

Agenda will include the following:

• Receive update on collaboration with USDA

• Review status of Roadmap update

• Receive an update on the status of the FY 2006 joint solicitation

• Meet with representatives from Chicago-area biomass interests

• Review status of 2005 Annual Report

• Finalize procedure for acceptance of a minority report

• Discuss Analysis, Policy, and other subcommittee business

• Discuss 2006 annual recommendations

• Discuss 2006 and 2007 meeting schedule

• Discuss Committee public relations efforts

Public Participation

In keeping with procedures, members of the public are welcome to observe the business of the Biomass Research and Development Technical Advisory Committee. To attend the meeting and/or to make oral statements regarding any of the items on the agenda, you should contact Neil Rossmeissl at 202-586-8668 or the Biomass Initiative at 202-586-4541 or harriet.foster@ee.doe.gov (e-mail). You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes

The minutes of the meeting will be available for public review and copying at the Freedom of Information Public Reading Room; Room 1E-190; Forrestal Building; 1000 Independence Avenue, SW., Washington, DC, between 9 a.m. and 4 p.m., Monday through Friday, except Federal holidays.

Issued at Washington, DC, on March 21, 2006.
Carol Matthews,
Acting Advisory Committee Management Officer.

[FR Doc. E6-4393 Filed 3-24-06; 8:45 am]

BILLING CODE 6450-01-P